FEDERAL MARITIME COMMISSION

Notice of Agreements Filed

The Commission hereby gives notice of the filing of the following agreements under the Shipping Act of 1984. Interested parties may submit comments, relevant information, or documents regarding the agreements to the Secretary by email at Secretary@fmc.gov, or by mail, Federal Maritime Commission, Washington, DC 20573. Comments will be most helpful to the Commission if received within 12 days of the date this notice appears in the Federal Register. Copies of agreements are available through the Commission's website (www.fmc.gov) or by contacting the Office of Agreements at (202)-523-5793 or tradeanalysis@fmc.gov.

Agreement No.: 201367.

Agreement Name: CMA CGM/Hapag Lloyd U.S. Gulf Coast to Jamaica Space Charter Agreement.

Parties: CMA CGM S.A. and Hapag-Lloyd AG.

Filing Party: Draughn Arbona; CMA CGM (America) LLC.

Synopsis: The Agreement authorizes CMA CGM to charter space to Hapag-Lloyd in the trade between the U.S. Gulf Coast and Jamaica.

Proposed Effective Date: 8/9/2021.

Location: https://www2.fmc.gov/FMC.Agreements.Web/Public/AgreementHistory/49503.

Agreement No.: 010955-010.

Agreement Name: ACL/H-L Reciprocal Space Charter and Sailing Agreement.

Parties: Atlantic Container Line A.B. and Hapag-Lloyd AG.

Filing Party: Wayne Rohde; Cozen O'Connor.

Synopsis: The amendment changes the name of the agreement, narrows its geographic scope, adds additional details regarding the cooperation of the parties, clarifies the authority of the parties with respect to joint negotiations, updates the address of ACL, shortens the notice required to terminate the agreement, makes other technical corrections, and deletes obsolete material. The amendment also restates the agreement.

Proposed Effective Date: 9/24/2021.

Location: https://www2.fmc.gov/FMC.Agreements.Web/Public/AgreementHistory/1184.

Agreement No.: 201368.

Agreement Name: ONE/CMA CGM Slot Exchange Agreement.

Parties: CMA CGM S.A. and Ocean Network Express Pte. Ltd.

Filing Party: Robert Magovern; Cozen O'Connor.

Synopsis: The Agreement authorizes CMA CGM and ONE to exchange space in the trade between Asia and the U.S. West Coast.

Proposed Effective Date: 9/26/2021.

Location: https://www2.fmc.gov/FMC.Agreements.Web/Public/AgreementHistory/49505.

Dated: August 13, 2021.
Rachel Dickon,
Secretary.

[FR Doc. 2021-17722 Filed 8-17-21; 8:45 am]

BILLING CODE 6730-02-P